DEPARTMENT OF TRANSPORTATION

Federal Aviation Administration

Noise Exposure Map Notice; Receipt of Noise Compatibility Program and Request for Review Philadelphia International Airport, Philadelphia, PA

AGENCY: Federal Aviation Administration, DOT.

ACTION: Notice.

SUMMARY: The Federal Aviation Administration (FAA) announces its determination that the noise exposure maps submitted by the City of Philadelphia for Philadelphia International Airport under the provisions of Title I of the Aviation Safety and Noise Abatement Act of 1979 (Pub. L. 96-193) and 14 CFR part 150 are in compliance with applicable requirements. The FAA also announces that it is reviewing a proposed noise compatibility program that was submitted for Philadelphia International Airport under part 150 in conjunction with the noise exposure maps, and that this program will be approved or disapproved on or before May 20, 2003.

DATES: The effective date of the FAA's determination on the noise exposure maps and of the start of its review of the associated noise compatibility program is November 21, 2002. The public comment period ends January 30, 2003.

FOR FURTHER INFORMATION CONTACT: James Byers, Federal Aviation Administration, Harrisburg Airports District Office, 3905 Hartzdale Drive, Camp Hill, PA 17011. Telephone 717-730-2833. Comments on the proposed noise compatibility program should also be submitted to the above office.

SUPPLEMENTARY INFORMATION: This notice announces that the FAA finds that the noise exposure maps submitted for Philadelphia International Airport are in compliance with applicable requirements of part 150, effective November 21, 2002. Further, FAA is reviewing a proposed noise compatibility program for that airport which will be approved or disapproved on or before May 20, 2003. This notice also announces the availability of this program for public review and comment.

Under section 103 of Title I of the Aviation Safety and Noise Abatement Act of 1979 (hereinafter referred to as “the Act”), an airport operator may submit to the FAA noise exposure maps which meet applicable regulations and which depict noncompatible land uses as of the date of submission of such maps, a description of projected aircraft operations, and the ways in which such operations will affect such maps. The Act requires such maps to be developed in consultation with interested and affected parties in the local community, government agencies, and persons using the airport.

An airport operator who has submitted noise exposure maps that are found by FAA to be in compliance with the requirements of Federal Aviation Regulations (FAR) part 150, promulgated pursuant to Title I of the Act, may submit a noise compatibility program for FAA approval which sets forth the measures the operator has taken or proposes for the reduction of existing noncompatible uses and for the prevention of the introduction of additional noncompatible uses.

The City of Philadelphia submitted to the FAA on June 28, 2001 and November 20, 2002, noise exposures maps, descriptions and other documentation which were produced during the Philadelphia International Airport part 150 Noise Compatibility Study Update conducted between August 2000 and June 2002. It was requested that the FAA review this material as the noise exposure maps, as described in section 103(a)(1) of the Act, and that the noise mitigation measures, to be implemented jointly by the airport and surrounding communities, be approved as a noise compatibility program under section 104(b) of the Act.

The FAA has completed its review of the noise exposure maps and related descriptions submitted by the City of Philadelphia. The specific maps under consideration are “2001 Noise Exposure Map” (NEM1) and “2006 Noise Exposure Map”(NEM2) with “Recommended Noise Compatibility Program” (NCP) in the submission. The documentation that constitutes the “Noise Exposure Maps” as defined in section 150.7 of Part 150 includes: NEM1 and NEM2 contain current and forecast condition graphics such as depiction of the airport and its boundaries and runway configurations; land uses such as hospitals, libraries, churches, historical points, schools, nursing homes, commercial and industrial areas, community service areas, and residential areas; and the areas within the DNL 65, 70 and 75. Estimates of the number of people residing within the DNL 65, 70 and 75 are found in Table 3-2. The locations of noise monitoring sites are found in Exhibit B-1. Flight tracks for the existing condition and the five-year forecasted timeframes are found in Exhibits C-6 and C-7. The type and frequency of aircraft operations (including nighttime operations) are found in Tables C-2, C-3, C-4, and C-5.

Comparability of Conditions: Federal Part 150 regulations require the preparation of noise exposure contours based on forecast aircraft operations at the airport for five years from the date of submission and that reasonable assumptions concerning fleet mix, flight patterns, and planned airport developments be incorporated. The initial schedule of the Philadelphia International Airport's Part 150 Study indicated that the Noise Exposure Maps would be submitted near the end of 2001. Therefore, 2006 operating levels were used for the Future NEM/NCP. The Part 150 Study was not submitted until 2002, due in part to the events of September 11. A comparison of the 2006 and 2007 forecasts was completed and found that there would be less than 1 percent difference between the two conditions (2006 = 556,625 and 2007 = 560,140). In addition, there is nothing to indicate that there would be significant changes in flight patterns, runway use, or fleet mix between 2006 and 2007. Therefore, the 2006 Future NEM/NCP noise contours are representative of 2007 conditions as well. The FAA has determined that these maps for Philadelphia International Airport are in compliance with applicable requirements. This determination is effective on November 21, 2002. FAA's determination on an airport operator's noise exposure maps is limited to a finding that the maps were developed in accordance with the procedures contained in Appendix A of FAR part 150. Such determination does not constitute approval of the applicant's data, information or plans, or a commitment to approve a noise compatibility program or to fund the implementation of that program.

If questions arise concerning the precise relationship of specific properties to noise exposure contours depicted on a noise exposure map submitted under section 103 of the Act, it should be noted that the FAA is not involved in an way in determining the relative locations of specific properties with regard to the depicted noise contours, or in interpreting the noise exposure maps to resolve questions concerning, for example, which properties should be covered by the provisions of section 107 of the Act. These functions are inseparable from the ultimate land use control and planning responsibilities of local government. These local responsibilities are not changed in any way under part 150 or through FAA's review of noise exposure maps. Therefore, the responsibility for the detailed overlaying of noise exposures contours onto the map depicting properties on the surface rests exclusively with the airport operator which submitted those maps, or with those public agencies and planning agencies with which consultation is required under section 103 of the Act. The FAA has relied on the certification by the airport operator, under section 150.21 of FAR part 150, that the statutorily required consultation has been accomplished.

The FAA has formally received the noise compatibility program for Philadelphia International Airport, also effective on November 21, 2002. Preliminary review of the submitted material indicates that it conforms to the requirements for the submittal of noise compatibility programs, but that further review will be necessary prior to approval or disapproval of the program. The formal review period, limited by law to a maximum of 180 days, will be completed on or before May 20, 2003.

The FAA's detailed evaluation will be conducted under the provisions of 14 CFR part 150, section 150.33. The primary considerations in the evaluation process are whether the proposed measures may reduce the level of aviation safety, created an undue burden on interstate or foreign commerce, or be reasonably consistent with obtaining the goal of reducing existing noncompatible land uses and preventing the introduction of additional noncompatible land uses.

Interested persons are invited to comment on the proposed program with specific reference to these factors. All comments, other than those properly addressed to local land use authorities, will be considered by the FAA to the extent practicable. Copies of the noise exposure maps, the FAA's evaluation of the maps, and the proposed noise compatibility program are available for examinations at the following locations: Philadelphia International Airport Terminal E, Philadelphia, Pennsylvania, 19153 and Federal Aviation Administration, Harrisburg Airports District Office, 3905 Hartzdale Drive, Camp Hill, PA 17011.

Questions may be directed to the individual named above under the heading, FOR FURTHER INFORMATION CONTACT.

Issued in Camp Hill, Pennsylvania, November 21, 2002.
Sharon A. Daboin,
Manager, Harrisburg Airports District Office.

[FR Doc. 02-31345 Filed 12-11-02; 8:45 am]

BILLING CODE 4910-13-M